DEPARTMENT OF HOUSING AND URBAN DEVELOPMENT

[Docket No. FR-5800-N-01]

Notice of HUD's Fiscal Year (FY) 2014 Notice of Funding Availability (NOFA) Policy Requirements and General Section to HUD's FY 2014 NOFAs for Discretionary Programs

AGENCY: Office of Strategic Planning and Management, HUD.

ACTION: Notice of HUD's FY2014 NOFA Policy Requirements and General Section to HUD's FY2014 NOFAs for Discretionary Grant Programs.

SUMMARY: This notice announces that HUD has posted on http://www.Grants.gov and http://www.HUD.gov its FY 2014 General Section to the Department's FY 2014 NOFAs for Discretionary Programs (General Section). HUD's General Section contains submission and other cross-cutting requirements applicable to all of FY 2014 HUD's competitive funding opportunities (NOFAs). In addition, the General Section lists HUD's Strategic Goals and NOFA priorities that HUD will use in FY 2014.

FOR FURTHER INFORMATION CONTACT: Office of Strategic Planning and Management, Grants Management Division, Department of Housing and Urban Development, 451 Seventh Street SW., Room 3156, Washington, DC 20410-3000; telephone number 202-708-0667, or email loyd.lamois@hud.gov or dorthera.yorkshire@hud.gov. This is not a toll-free number. Persons with hearing or speech impairments may access this number via TTY by calling the Federal Relay Service at (800) 877-8339.

SUPPLEMENTARY INFORMATION: Today's Federal Register notice announces that HUD has posted its FY 2014 General Section on http://www.Grants.gov and http://portal.hud.gov/hudportal/HUD?src=/program_offices/administration/grants/fundsavail. The General Section describes the requirements that are applicable to all of HUD FY 2014 Discretionary Program NOFAs.

The General Section also provides summary information regarding HUD's Strategic Goals and FY 2014 NOFA priorities. HUD encourages applicants for funding in FY2014 to undertake programs and projects that contribute to HUD's strategic goals and NOFA priorities. HUD's NOFA priorities are designed to align grantee efforts with HUD's Strategic Goals and the Department's Mission. Applicants that undertake activities that result in achievement of specific NOFA priorities are eligible to receive priority points in the rating of their application.

Each program NOFA will describe additional procedures and requirements that apply to the individual program, including a description of the eligible applicants, eligible activities, threshold requirements, cross-program requirements such as nondiscrimination, environmental protection, and any additional program requirements or limitations. To adequately address all of the application requirements for any program, HUD encourages potential applicants to carefully read and respond to both the General Section and the applicable Program NOFA. NOFA priority points will be considered only if the application already meets or exceeds the NOFA's threshold for funding.

HUD will post its FY 2014 program NOFAs on http://www.Grants.gov and http://www.HUD.gov as they become available. Today's notice is intended to provide prospective applicants for HUD's competitive funding with the opportunity to become familiar with the General Section of HUD's FY2014 NOFAs, in advance of publication of any FY2014 NOFAs.

Dated: February 21, 2014.
Henry Hensley,
Acting Director, Office of Strategic Planning and Management.

[FR Doc. 2014-04205 Filed 2-25-14; 8:45 am]

BILLING CODE 4210-67-P